GENERAL SERVICES ADMINISTRATION

[Notice-R09-2011-01; Docket 2011-0006; Sequence 12]

Notice of Availability of the Final Environmental Impact Statement for Improvements to the Calexico West Land Port of Entry, Calexico, CA

AGENCY: Public Buildings Service, General Services Administration (GSA).

ACTION: Notice.

SUMMARY: The General Services Administration (GSA) announces the availability of the Final Environmental Impact Statement (EIS) for Improvements to the Calexico West Land Port of Entry (LPOE), in Calexico, California. The Final EIS provides GSA and its stakeholders an analysis of the environmental impacts resulting from ongoing operations as well as reasonable alternatives for expansion of the Calexico West LPOE.

DATES: May 27, 2011.

FOR FURTHER INFORMATION CONTACT: Ms. Maureen Sheehan, (253) 931-7548.

SUPPLEMENTARY INFORMATION:

Background: The Final EIS was prepared pursuant to the National Environmental Policy Act of 1969 (NEPA) [42 U.S.C. 4321 et seq.] and the Council on Environmental Quality NEPA regulations [40 CFR part 1500].

The downtown Calexico LPOE serves privately-owned vehicle (POV), bus, and pedestrian traffic into and out of the Baja California city of Mexicali. The existing LPOE does not meet the Federal inspection services' minimum standards for processing time and overall efficiency. GSA's need is to correct these operational deficiencies, provide for more thorough inspections, improve safety for employees and the public, and reduce the delays experienced by the public.

GSA has identified and assessed several design options for the renovation, replacement, and continued operation of the Calexico West Port of Entry. In addition, GSA analyzed the No Action Alternative in which GSA would continue the status quo, that is, operate the port of entry in its current configuration, with only minor repairs and alterations.

GSA will consider the Final EIS, along with other economic and technical considerations, to make a decision on the appropriate course for improvements at the Calexico West LPOE. Following this thirty (30) day notice in the Federal Register, GSA will issue a Record of Decision (ROD) at which time its availability will be announced in the Federal Register and local media.

Contact: Ms. Maureen Sheehan, NEPA Project Manager, Portfolio Management Division, Capital Investment Branch (9P2PTC), U.S. General Services Administration, 400 15th St., SW., Auburn, Washington 98001, (253) 931-7548 or via e-mail to maureen.sheehan@gsa.gov.

Copies of the Final EIS may be downloaded from http://www.gsa.gov/nepalibrary.

Dated: May 19, 2011.
Samuel R. Mazzola,
Director, Portfolio Management Division, Pacific Rim Region.

[FR Doc. 2011-13176 Filed 5-26-11; 8:45 am]

BILLING CODE 6820-YF-P